DEPARTMENT OF AGRICULTURE

National Agricultural Statistics Service

Notice of the Advisory Committee on Agriculture Statistics Meeting

AGENCY: National Agricultural Statistics Service, USDA.

ACTION: Notice of meeting.

SUMMARY: In accordance with the Federal Advisory Committee Act, 5 U.S.C. App. 2, the National Agricultural Statistics Service (NASS) announces a meeting of the Advisory Committee on Agriculture Statistics.

FOR FURTHER INFORMATION CONTACT: Rich Allen, Executive Director, Advisory Committee on Agriculture Statistics, U.S. Department of Agriculture, National Agricultural Statistics Service, 1400 Independence Avenue SW, Room 4117 South Building, Washington, D.C. 20250-2000. Telephone: 202-720-4333, Fax: 202-720-9013, or e-mail: rallen@nass.usda.gov.

SUPPLEMENTARY INFORMATION: The Advisory Committee on Agriculture Statistics, which consists of 25 members appointed from 7 categories covering a broad range of agricultural disciplines and interests, has scheduled a meeting on April 25-26, 2000. The Committee meeting will be held 8 a.m.-4:30 p.m. on Tuesday, April 25, and 8:00 a.m.-11:30 a.m. on Wednesday, April 26. During this time the Advisory Committee will discuss: (1) 2002 Census of Agriculture content, (2) NASS data use policy, (3) mandatory business reporting, and (4) census of agriculture procedures for American Indian reservations.

Dates and Locations: April 25—8 a.m. to 4:30 p.m., Advisory Committee Meeting, with an opportunity for public questions and comments at 3:30 p.m., Crowne Plaza Hotel, 1001 14th & K Streets, NW, Washington, DC.

April 26—8 a.m. to 11:30 a.m., Advisory Committee Meeting, with an opportunity for public questions and comments at 9:45 a.m., Crowne Plaza Hotel, 1001 14th & K Streets, NW, Washington, DC.

Type of Meeting: Open to the public.

Comments: The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC. 20250.

Dated: April 3, 2000, at Washington, DC.
R. Ronald Bosecker,
Administrator, National Agricultural Statistics Service.

[FR Doc. 00-8610 Filed 4-6-00; 8:45 am]

BILLING CODE 3410-20-P